DEPARTMENT OF ENERGY

Federal Energy Regulatory Commission

[Project No. 10522-022]

Franklin Hydro, Inc.; Malone's Next Gen LLC; Notice of Application for Transfer of License and Soliciting Comments and Motions To Intervene

On February 18, 2014, Franklin Hydro, Inc. (transferor) and Malone's Next Gen LLC (transferee) filed an application for transfer of license of the Whittelsey Hydroelectric Project, FERC No. 10522, located on the Salmon River in Franklin County, New York.

The transferor and transferee seek Commission approval to transfer the license for the Whittelsey Hydroelectric Project from the transferor to the transferee.

Applicant Contacts: For Transferor: Mr. John Webster, General Partner, Marlborough Hydro Associates, P.O. Box 178, South Berwick, ME 03908, telephone 207-384-5334 and Ms. Elizabeth W. Whittle, Nixon Peabody, LLP, 401 Ninth Street NW., Suite 900, Washington, DC 20004, telephone 202-585-8338. For Transferee: Mr. Travis Pritchard, Operating Partner, Malone's Next Gen LLC, 428 East Main Street, Malone, New York 12953, telephone 518-483-2200.

FERC Contact: Patricia W. Gillis, (202) 502-8735.

Deadline for filing comments and motions to intervene: 30 days from the issuance date of this notice, by the Commission. The Commission strongly encourages electronic filing. Please file motions to intervene and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE., Washington, DC 20426. The first page of any filing should include docket number P-10522-022.

Dated: February 25, 2014.
Kimberly D. Bose,
Secretary.

[FR Doc. 2014-04608 Filed 2-28-14; 8:45 am]

BILLING CODE 6717-01-P